DEPARTMENT OF AGRICULTURE

Food Safety and Inspection Service

[Docket No. FSIS-2008-0001]

Codex Alimentarius Commission: Meeting of the Codex Committee on Methods of Analysis and Sampling (CCMAS)

AGENCY: Office of the Under Secretary for Food Safety, USDA.

ACTION: Notice of public meeting and request for comments.

SUMMARY: The Office of the Under Secretary for Food Safety, U.S. Department of Agriculture (USDA) and the Food and Drug Administration (FDA) are sponsoring a public meeting on February 28, 2008. The objective of the public meeting is to provide information and receive public comments on agenda items and draft United States positions that will be discussed at the 29th Session of the Codex Committee on Methods of Analysis and Sampling (CCMAS) of the Codex Alimentarius Commission (Codex), which will be held in Budapest, Hungary on March 10-14, 2008. The Under Secretary for Food Safety and FDA recognize the importance of providing interested parties the opportunity to obtain background information on the 29th Session of the CCMAS and to address items on the agenda.

DATES: The public meeting is scheduled for Thursday, February 28, 2008, from 2 p.m. to 3 p.m.

ADDRESSES: The public meeting will be held in Conference Room 1A 001 of the Harvey W. Wiley Building located at 5100 Paint Branch Parkway, College Park, Maryland. Documents related to the 29th Session of the CCMAS will be accessible via the World Wide Web at the following address: http://www.codexalimentarius.net/current.asp.

The U.S. Delegate to the 29th session of the CCMAS, Dr. Gregory Diachenko, FDA, invites interested U.S. parties to submit their comments electronically to the following e-mail address: gregory.diachenko@fda.hhs.gov.

Registration

To gain admittance to this meeting, individuals must present a photo ID for identification and also are required to pre-register. In addition, no cameras or videotaping equipment will be permitted in the meeting room. To pre-register, please send the following information to this e-mail address: gregory.diachenko@fda.hhs.gov by February 25, 2008:

Your Name

Organization

Mailing Address

Phone number

E-mail address

For Further Information About the 29th Session of the CCMAS Contact: Dr. Gregory Diachenko, Director, Division of Analytical Chemistry, Center for Food Safety and Applied Nutrition (HFS-705), FDA, Harvey Wiley Federal Building, 5100 Paint Branch Parkway, College Park, Maryland 20740. Phone (301) 436-1898; Fax (301) 436-2634, E-mail: gregory.diachenko@fda.hhs.gov.

For Further Information About the Public Meeting Contact: Syed Amjad Ali, International Issues Analyst, U.S. Codex Office, Food Safety and Inspection Service (FSIS), Room 4861, South Agriculture Building, 1400 Independence Avenue, SW., Washington, DC 20250-3700. Phone (202) 205-7760; Fax (202) 720-3157.

SUPPLEMENTARY INFORMATION:

Background

The Codex Alimentarius Commission (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The CCMAS was established to perform multiple functions; define criteria appropriate for Codex methods of analysis and sampling; specify reference methods of analysis and sampling; endorse methods of analysis and sampling proposed by Codex Committees; elaborate sampling plans; and consider specific sampling and analysis problems. The Committee is hosted by Hungary.

Issues To Be Discussed at the Public Meeting

The following items on the agenda for the 29th Session of the CCMAS will be discussed during the public meeting:

• Matters Referred by the Codex Alimentarius Commission and other Codex Committees

• Proposed Draft Guidelines for Evaluating Acceptable Methods of Analysis

• Proposed Draft Guidelines for Settling Disputes on Analytical (Test) Results

• Proposed Draft Guidelines on Analytical Terminology for Codex Use

• Criteria for Methods of Detection and Identification of Foods Derived from Biotechnology

• Conversion of the Methods for Trace Elements into Criteria

• Guidance on Measurement Uncertainty and Uncertainty of Sampling

Each issue listed will be fully described in documents distributed, or to be distributed, by the Secretariat prior to the meeting. Members of the public may access these documents on the World Wide Web (see ADDRESSES).

Public Meeting

At the February 28, 2008, public meeting, draft U.S. positions on the agenda items will be described and discussed, and attendees will have the opportunity to pose questions and offer comments. Written comments may be offered at the meeting or sent to the U.S. Delegate for the 29th Session of the CCMAS (see ADDRESSES). Written comments should state that they relate to activities of the 29th Session of the CCMAS.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on February 8, 2008.
Karen L. Hulebak,
Acting U.S. Manager for Codex Alimentarius.

[FR Doc. E8-2760 Filed 2-13-08; 8:45 am]

BILLING CODE 3410-DM-P